CORPORATION FOR NATIONAL AND COMMUNITY SERVICE

Agency Information Collection Activities; Submission to the Office of Management and Budget for Review and Approval; Comment Request; Request for Medical or Religious Reasonable Accommodation

AGENCY: Corporation for National and Community Service.

ACTION: Notice of information collection; request for comment.

SUMMARY: The Corporation for National and Community Service, operating as AmeriCorps, has submitted a public information collection request (ICR) entitled Request for Medical or Religious Reasonable Accommodation for review and approval in accordance with the Paperwork Reduction Act.

DATES: Written comments must be submitted to the individual and office listed in the ADDRESSES section by August 1, 2022.

ADDRESSES: Written comments and recommendations for the proposed information collection should be sent within 30 days of publication of this notice to www.reginfo.gov/public/do/PRAMain. Find this particular information collection by selecting “Currently Under 30-Day Review—Open for Public Comments” or by using the search function.

FOR FURTHER INFORMATION CONTACT: Copies of this ICR, with applicable supporting documentation, may be obtained by calling the Corporation for National and Community Service, Lisa Gray, 202-308-9304, or by email to LiGray@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 14, 2022 at 87 FR 14256. The comment period ended May 13, 2022. No comments were received in response to that notice.

Title of Collection: Request for Medical or Religious Reasonable Accommodation.

OMB Control Number: 3045-0196.

Type of Review: Revision.

Respondents/Affected Public: Individuals.

Total Estimated Number of Annual Responses: 40.

Total Estimated Number of Annual Burden Hours: 70.

Abstract: AmeriCorps seeks to revise the current information collection, which was for requests for health and religious accommodations that were specific to seeking exemptions from the COVID-19 vaccination requirement, but with this revision, AmeriCorps is revising the forms to cover all requests for health and religious accommodations. This information collection allows AmeriCorps to collect information in support of individuals' requests for religious and medical accommodations, made for sincerely held religious beliefs, practices, or observances. The forms associated with this system of records will facilitate the processing of requests for accommodations. These forms allow AmeriCorps to collect information in support of individuals' requests for any religious and medical accommodation, so that AmeriCorps can act on those requests as appropriate. The information is collected on two separate forms: one for requests for religious accommodation and one for requests for medical accommodation. The current information collection is due to expire on June 30, 2022.

Lisa Gray,
Acting Director of Civil Rights.

[FR Doc. 2022-13967 Filed 6-29-22; 8:45 am]

BILLING CODE 6050-28-P